DEPARTMENT OF HEALTH AND HUMAN SERVICES

National Institutes of Health

Submission for OMB Review; 30-Day Comment Request; Generic Clearance To Support the Safe To Sleep® Campaign (Eunice Kennedy Shriver National Institute of Child Health and Human Development); Correction

AGENCY: National Institutes of Health, HHS.

ACTION: Notice; correction.

SUMMARY: The Department of Health and Human Services, National Institutes of Health published a Notice in the Federal Register on November 9, 2017. That Notice inadvertently contained an error in the Supplementary Information section.

FOR FURTHER INFORMATION CONTACT: Dr. Jennifer Guimond, Project Clearance Liaison, Office of Science Policy, Reporting, and Program Analysis, Eunice Kennedy Shriver National Institute of Child Health and Human Development, National Institutes of Health, 31 Center Drive, Room 2A18, Bethesda, Maryland 20892 or call non-toll-free number (301) 496-1877 or Email Jennifer.guimond@nih.gov.

SUPPLEMENTARY INFORMATION: On November 9, 2017, the Department of Health and Human Services, National Institutes of Health published a Notice in the Federal Register on page 52062 (82 FR 52062) that inadvertently did not contain the expiration date within the Supplementary Information section regarding Proposed Collection:. The purpose of this notice is to insert the expiration date and should read; Proposed Collection: Generic Clearance to Support the Safe to Sleep® Campaign 0925-0701, Expiration Date 07/31/2017, REINSTATEMENT WITH CHANGE at the Eunice Kennedy Shriver National Institute for Child Health and Human Development (NICHD), National Institutes of Health (NIH).

Dated: November 9, 2017.
Jennifer Guimond,
Project Clearance Liaison, Eunice Kennedy Shriver National Institute of Child Health and Human Development, National Institutes of Health.

[FR Doc. 2017-24776 Filed 11-15-17; 8:45 am]

BILLING CODE 4140-01-P